DEPARTMENT OF ENERGY

Federal Energy Regulatory Commission

[Project No. 2376-049]

Appalachian Power Company, Eagle Creek Reusens Hydro, LLC; Notice of Application for Transfer of License and Soliciting Comments, Motions To Intervene, and Protests

On September 1, 2016, Appalachian Power Company (transferor) and Eagle Creek Reusens Hydro, LLC (transferee) filed an application for the transfer of license of the Reusens Project No. 2376. The project is located on the James River in Amherst and Bedford counties, Virginia.

The applicants seek Commission approval to transfer the license for the Reusens Project from Appalachian Power Company to Eagle Creek Reusens Hydro, LLC.

Applicants Contact: For transferor: Ms. Noelle J. Coates, American Electric Service Corporation, Three James Center, 1051 E. Cary Street, Suite 1100, Richmond, VA 23219, Phone: 804-698-5541, Email: njcoates@aep.com; Ms. Amanda R. Connor, American Electric Service Corporation, 801 Pennsylvania Ave NW., Suite 735, Washington, DC 20004-2615, Phone: 202-383-3436, Email: arconner@aep.com; and Mr. John A. Whittaker, IV and Ms. Kimberly Ognisty, Winston & Strawn LLP, 1700 K Street NW., Washington, DC 20006, Phones: 202-282-5766 and 202-282-5217, Emails: jwhittaker@winston.com and koginsty@winston.com. For transferee: Mr. Bernard Cherry, Eagle Creek Reusens Hydro, LLC, 65 Madison Avenue, Morristown, NJ 07960, Phone: 973-998-8400, Email: Bud.cherry@eaglecreekre.com; and Mr. Donald H. Clarke and Mr. Joshua E. Adrian, Duncan, Weinberg, Genzer & Pembroke, P.C., 1615 M Street NW., Suite 800, Washington, DC 20036, Emails: dhc@dwgp.com and jea@dwgp.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2376-049.

Dated: September 12, 2016.
Kimberly D. Bose,
Secretary.

[FR Doc. 2016-22597 Filed 9-19-16; 8:45 am]

BILLING CODE 6717-01-P